DEPARTMENT OF HOUSING AND URBAN DEVELOPMENT

[Docket No. FR-5118-N-01]

Notice of Proposed Information Collection: Comment Request Section 108 Loan Guarantee Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: May 14, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov.

FOR FURTHER INFORMATION CONTACT: Paul Webster, Director, Financial Management Division, Department of Housing and Urban Development, 451 7th Street SW., Washington, DC 20410, telephone (202) 708-1871 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Section 108 Loan Guarantee Program Application.

OMB Control Number, if applicable: 2506-0161.

Description of the Need for the Information and Proposed Use: This information is necessary to render judgment on the eligibility of the activities proposed to be financed with Section 108 loan guarantee assistance and to ensure that the loan guarantee is an acceptable risk to the Federal government. Information collected pursuant to the application requirements will be reviewed and analyzed to determine compliance with statutory requirements on eligibility and compliance with national objectives requirements of the Community Development Block Grant program.

Agency Form Numbers, if Applicable: None.

Estimation of the Total Numbers of Hours Needed to Prepare the Information Collection Including Number of Respondents, Frequency of Response, and Hours of Response: the estimated number of respondents is 50, generating approximately 50 annual responses; the estimated time to prepare the information collection is 125 hours; and the estimated total annual burden is 6,250.

Status of the Proposed Information Collection: This is an extension of a currently approved collection.

Authority: The Paperwork Reduction Act of 1995, 44 U.S.C., Chapter 35, as amended.

Dated: March 5, 2007.
Pamela H. Patenaude,
Assistant Secretary for Community Planning and Development.

[FR Doc. E7-4564 Filed 3-13-07; 8:45 am]

BILLING CODE 4210-67-P